DEPARTMENT OF THE TREASURY

Internal Revenue Service

26 CFR Part 1

[TD 9234]

RIN 1545-AU98

Obligations of States and Political Subdivisions; Correction

AGENCY: Internal Revenue Service (IRS), Treasury.

ACTION: Correction to final regulations.

SUMMARY: This document corrects final regulations (TD 9234) that was published in the Federal Register on Monday, December 19, 2005 (70 FR 75028). The final regulations relates to the definition of private activity bond applicable to tax-exempt bonds issued by State and local governments.

DATES: This correction is effective February 17, 2006.

FOR FURTHER INFORMATION CONTACT: Johanna Som de Cerff, (202) 622-3980 (not a toll-free call).

SUPPLEMENTARY INFORMATION:

Background

The final regulations (TD 9234) that is the subject of this correction is under section 141 of the Internal Revenue Code.

Need for Correction

As published, TD 9234 contains error that may prove to be misleading and is in need of clarification.

Correction of Publication

Accordingly, the publication of the final regulations (TD 9234), that was the subject of FR Doc. 05-23944, is corrected as follows:

§ 1.141-15 [Corrected]

On page 75035, column 2, § 1.141-15(j), lines 7 and 8, the language, “on or after February 17, 2006 and that are subject to the 1997 regulations.” is corrected to read “on or after February 17, 2006, and that are subject to the 1997 regulations (defined in paragraph (b)(1) of this section).”.

Cynthia Grigsby,
Acting Chief, Publications and Regulations Branch, Legal Processing Division, Associate Chief Counsel, (Procedure and Administration).

[FR Doc. 06-250 Filed 1-11-06; 8:45 am]

BILLING CODE 4830-01-P